DEPARTMENT OF COMMERCE

National Oceanic and Atmospheric Administration

50 CFR Part 622

[I.D. 072301B]

Fisheries of the Caribbean, Gulf of Mexico, and South Atlantic; Shrimp Fishery of the Gulf of Mexico; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on its proposed Draft Amendment 10 to the Fishery Management Plan for the Shrimp Fishery of the Gulf of Mexico, U.S. Waters (Draft Amendment 10).

DATES: The public hearings will be held in August, 2001. See SUPPLEMENTARY INFORMATIONfor specific dates and times of the public hearings. Written comments on Draft Amendment 10 will be accepted until September 7, 2001.

ADDRESSES: Written comments should be sent to and copies of Draft Amendment 10 are available from the Gulf of Mexico Fishery Management Council, 3018 U.S. Highway 301, North, Suite 1000, Tampa, FL 33619; telephone 813-228-2815. Public hearings will be held in Texas and Florida. See SUPPLEMENTARY INFORMATION for specific hearing locations.

FOR FURTHER INFORMATION CONTACT: Dr. Richard Leard, Senior Fishery Biologist, Gulf of Mexico Fishery Management Council; telephone: 813-228-2815.

SUPPLEMENTARY INFORMATION: The public hearings will be convened to take public comment on Draft Amendment 10. The amendment contains alternative measures for reducing bycatch in the Gulf of Mexico shrimp fishery off the west coast of Florida, south and east of Cape San Blas, FL (85°30′ W long.). The Council is considering alternative measures including area and/or seasonal shrimp fishery closures as well as requiring bycatch reduction devices (BRDs) in shrimp trawls used in the subject area.

Time and Location for Public Hearings

Public hearings for Draft Amendment 10 will be held at the following locations and dates from 7 p.m. - 10 p.m.

1. Tuesday, August 14, 2001, Laguna Madre Learning Center, Port Isabel High School, Highway 100, Port Isabel, TX 78578, telephone: 956-943-0052;

2. Wednesday, August 15, 2001, Palacios Recreation Center, 2401 Perryman, Palacios, TX 77465, telephone: 361-972-2387;

3. Monday, August 20, 2001, Holiday Inn Beachside, 3841 North Roosevelt Boulevard, Key West, FL 33040, telephone: 305-294-2571;

4. Tuesday, August 21, 2001, Edison Comm. College, Room H101, Ft. Myers, FL (use Shoreline Blvd entrance Park in 1st lot on right [Lot 8]. For Map directions see: http://www.edison.edu/aboutecc/lee_campus.htm;

5. Thursday, August 23, 2001, Tampa Airport Hilton, 2225 Lois Avenue, Tampa, FL 33607, telephone: 813-877-6688; and

6. Tuesday, August 28, 2001, Franklin County Courthouse, 33 Market Street, Apalachicola, FL 32320, telephone: 850-653-8861.

The Council will also hear public testimony before taking final action on the amendment on September 12, 2001, at its meeting in New Orleans, LA. A notification of the date, time, and location of that meeting will be published in the Federal Register. The Council will accept written comments received by September 7, 2001.

Special Accommodations

These meetings are physically accessible to people with disabilities. Requests for sign language interpretation or other auxiliary aids should be directed to Anne Alford at the Council (see ADDRESSES) by July 31, 2001.

Dated: July 27, 2001.
Dean Swanson,
Acting Director, Office of Sustainable Fisheries, National Marine Fisheries Service.

[FR Doc. 01-19359 Filed 8-1-01; 8:45 am]

BILLING CODE 3510-22-S